DEPARTMENT OF TRANSPORTATION

Federal Aviation Administration

Notice of Intent To Rule on Application To Use and To Impose and Use the Revenue From a Passenger Facility Charge (PFC) at Meadows Field Airport, Bakersfield, CA

AGENCY: Federal Aviation Administration (FAA), DOT.

ACTION: Notice of intent to rule on application.

SUMMARY: The FAA proposes to rule and invites public comment on the application to use and to impose and use the revenue from a PFC at Meadows Field Airport under the provisions of the Aviation Safety and Capacity Expansion Act of 1990 (Title IX of the Omnibus Budget Reconciliation Act of 1990) (Pub. L. 101-508) and Part 158 of the Federal Aviation Regulations (14 CFR Part 158).

DATES: Comments must be received on or before February 20, 2001.

ADDRESSES: Comments on this application may be mailed or delivered in triplicate to the FAA at the following address: Airports Division, 15000 Aviation Blvd., Room 3024, Lawndale, CA 90261. In addition, one copy of any comments submitted to the FAA must be mailed or delivered to Mr. Raymond Bishop, Director of Airports of the county of Kern at the following address: 1401 Skyway Drive, Suite 200, Bakersfield, CA 93308. Air carriers and foreign air carriers may submit copies of written comments previously provided to the county of Kern under section 158.23 of Part 158.

FOR FURTHER INFORMATION CONTACT: Mr. David Delshad, Airports Program Engineer, Standards Section, Airports Division, 15000 Aviation Blvd., Room 3024, Lawndale, CA 90261, Telephone: (310) 725-3627. The application may be reviewed in person at this same location.

SUPPLEMENTARY INFORMATION: The FAA proposes to rule and invites public comment on the application to use and to impose and use the revenue from a PFC at Meadows Field Airport under the provisions of the Aviation Safety and Capacity Expansion Act of 1990 (Title IX of the Omnibus Budget Reconciliation Act of 1990) (Pub. L. 101-508) and Part 158 of the Federal Aviation Regulations (14 CFR Part 158). On December 15, 2000, the FAA determined that the application to use and to impose and use the revenue from a PFC submitted by the county of Kern was substantially complete within the requirements of § 158.25 of Part 158. The FAA will approve or disapprove the application, in whole or in part, no later than March 17, 2001. The following is a brief overview of the application. Project No. 1 (use project)

Level of proposed PFC: $3.00.

Charge effective date: January 1, 2000.

Proposed charge expiration date: May 1, 2002.

Total estimated PFC revenue: $317,000.

Brief description of proposed project: Land acquisition for Airport Expansion Project No. 2 (impose and use project).

Level of Proposed PFC: $4.50.

Proposed charge effective date: June 1, 2001.

Proposed charge expiration date: February 1, 2014.

Total estimated PFC revenue: $9,086,000.

Brief description of proposed project: Construct new passenger terminal Class or classes of air carriers which the public agency has requested not be required to collect PFCs: None.

Any person may inspect the application in person at the FAA office listed above under FOR FURTHER INFORMATION CONTACT. In addition, any person may, upon request, inspect the application, notice and other documents germane to the application in person at the Meadows Field Airport Administration Office.

Issued in Hawthorne, California, on December 22, 2000.
Ellsworth Chan,
Acting Manager, Airports Division Western-Pacific Region.

[FR Doc. 01-1552 Filed 1-17-01; 8:45 am]

BILLING CODE 4910-13-M